DEPARTMENT OF DEFENSE

Department of the Army

Preparation of an Environmental Impact Statement (EIS) for Development and Implementation of Range-Wide Mission and Major Capabilities at White Sands Missile Range (WSMR), NM

AGENCY: Department of the Army.

ACTION: Notice of intent.

SUMMARY: The Department of the Army announces its intent to prepare an EIS for expanded activities on WSMR. This EIS will analyze the impacts of new mission requirements and development of new test and training capabilities and associated land use changes to support Army Transformation, the Army Campaign Plan, Future Combat Systems, Grow the Army, and other Army initiatives. This includes the stationing of a Heavy Brigade Combat Team (HBCT) of approximately 3,800 Soldiers at WSMR. This action also supports WSMR as a test bed for rapid development and deployment of new systems in response to rapidly changing world conditions and long-term Department of Defense, U.S. Army Developmental Test Command, and Army planning. Specifically, this EIS will assess environmental impacts associated with changing land uses to allow for expanded off-road maneuver in some areas, to support new testing capabilities and requirements, and continuing off-post to on-post tests. It will also address new weapons firing ranges and capabilities, as well as Soldier and Family housing, schools, infrastructure, utilities, and administrative and related facilities needed to support stationing of the HBCT at WSMR. The proposed action would result in a flexible, capabilities-based airspace and land use plan able to accommodate rapidly evolving customer needs, support current and future mission activities, and support a full range of test and training efforts from individual components up through major joint and multinational programs.

ADDRESSES: Written comments should be forwarded to: White Sands Test Center, Operations Office, Attention: Catherine Giblin, 124 Crozier Street, Building 124, White Sands Missile Range, NM 88002; faxed to (575) 678-4082; or e-mailed to: WSMREIS@conus.army.mil.

FOR FURTHER INFORMATION CONTACT: Monte Marlin, Public Affairs Office, Building 1782, Headquarters Avenue, White Sands Missile Range, NM, 88002; (575) 678-1134; or e-mail: monte.marlin@us.army.mil.

SUPPLEMENTARY INFORMATION: The EIS will assess the environmental impacts associated with WSMR's development and implementation of an airspace and land use plan to support Army Transformation, Grow the Army and the Army Campaign Plan initiatives by more fully realizing and integrating the capabilities of the WSMR primacy mission—research, development, testing, and evaluation (RDTE)—and impacts associated with new training capabilities and stationing decisions. Testing typically involves activities such as missile flight tests, aerial intercepts, air-delivered munitions tests against ground targets, directed energy and various weapons systems tests. Training involves military personnel using the land and airspace for maneuver and weapons firing, as well as for field evaluation of weapons, equipment, communication systems, or other objectives. Stationing involves the establishment of infrastructure such as barracks, motor pools, and administrative buildings for Soldiers of the HBCT and their equipment. Requirements for new use of test and training capabilities would result in changing land use designations within the current installation boundaries. These changes would support current and future requirements and allow off-road vehicle maneuver on designated portions of the installation. WSMR will maintain its current RDTE mission and continue to support joint testing objectives.

The EIS will evaluate and disclose the impacts of two alternatives as well as a no action alternative.

No Action Alternative: This alternative includes current test capabilities and land use designations with current levels of operations and activities.

Alternative 1: This alternative includes those activities described in the No Action alternative plus changes in land use to expand testing and maneuver capabilities to include Future Combat Systems and supporting infrastructure. This alternative supports the Grow the Army decision to station an HBCT at WSMR that requires main cantonment expansion and additional supporting infrastructure. Training for the newly stationed units, to include the HBCT and the 2nd Engineer Battalion, will leverage the considerable range modernization that is taking place at Fort Bliss.

Alternative 2: This alternative includes those activities described in Alternative I and also includes the construction and operation of training ranges and the identification of maneuver areas for testing and training on WSMR.

The EIS will evaluate the environmental effects associated with the varying testing, training, maneuver and facility requirements of each alternative on the natural, cultural, and man-made environments at WSMR and in the southern New Mexico region.

Federal, State, and local agencies, affected federally recognized Indian tribes, and other interested persons are invited to participate in the scoping process for the preparation of this EIS. Public scoping meetings in the vicinity of the installation will be held to facilitate input to the EIS process from interested parties. Dates for the meetings will be announced in the local media and will be at times and locations convenient to the public. To ensure scoping comments are fully considered in the Draft EIS, comments and suggestions should be received within the 30-day scoping period or no later than 15 days following the last scoping meeting, whichever is later.

Dated: June 11, 2008.
Addison D. Davis, IV,
Deputy Assistant Secretary of the Army (Environment, Safety, and Occupational Health).

[FR Doc. E8-13622 Filed 6-18-08; 8:45 am]

BILLING CODE 3710-08-M